DEPARTMENT OF TRANSPORTATION

Federal Aviation Administration

Advisory Circular 23-15A, Small Airplane Certification Compliance Program

AGENCY: Federal Aviation Administration (FAA), DOT.

ACTION: Notice of availability of proposed advisory circular (AC) and request for comments.

SUMMARY: This notice announces the availability of and requests comments on a proposed AC. Proposed AC 23-15A provides information and guidance concerning an acceptable means, but not the only means, of compliance with various sections of Title 14 of the Code of Federal Regulations (14 CFR) part 23 that have become burdensome for small, simple, low performance airplanes. However, applicability of these means of compliance remains the responsibility of the certification manager for each specific project. Utilization of these means of compliance does not affect the applicability of any other certification requirements that fall outside the scope of this AC. Material in the AC is neither mandatory nor regulatory in nature and does not constitute a regulation.

DATES: Comments must be received on or before August 18, 2003.

ADDRESSES: Send all comments on the proposed AC to: Federal Aviation Administration, Small Airplane Directorate, Aircraft Certification Service, Regulations and Policy (ACE-111), 901 Locust Street, Kansas City, Missouri 64106.

FOR FURTHER INFORMATION CONTACT: Mr. Mark James, Standards Office, Small Airplane Directorate, Aircraft Certification Service, Kansas City, Missouri 64106, telephone (816) 329-4137, fax (816) 329-4090.

SUPPLEMENTARY INFORMATION: Any person may obtain a copy of this proposed AC by contacting the person named above under FOR FURTHER INFORMATION CONTACT. A copy of the AC will also be available on the Internet at http://www.airweb.faa.gov/AC within a few days.

Comments Invited

We invite interested parties to submit comments on the proposed AC. Commenters must identify AC 23-15A and submit comments to the address specified above. The FAA will consider all communications received on or before the closing date for comments before issuing the final AC. The proposed AC and comments received may be inspected at the Standards Office (ACE-110), 901 Locust, Room 301, Kansas City, Missouri, between the hours of 8:30 and 4 p.m. weekdays, except Federal holidays by making an appointment in advance with the person listed under FOR FURTHER INFORMATION CONTACT.

Background

AC 23-15A, Small Airplane Certification Compliance Program replaced AC 23-15, Small Airplane Certification Compliance Program, dated January 2, 1997.

Some industry and aviation organizations expressed concern that the typical means of compliance for some regulations might be more demanding than justified. As a consequence, industry, aviation groups, and the FAA formed a team to study this issue. Historical files, Designated Engineering Representatives (DER's), ACO's, and industry were used to determine target regulations and provide known means of compliance. This AC is a compilation of the study results, listing the regulations and attendant means of compliance that offer an improvement in certification efficiency. The listed means of compliance have been found acceptable and historically successful, but they are not the only methods that can be used to show compliance. In some cases, highly sophisticated airplanes may require more accurate or substantial solutions. Accordingly, the FAA is proposing and requesting comments on AC 23-15A.

Issued in Kansas City, Missouri on May 28, 2003.
James E. Jackson,
Acting Manager, Small Airplane Directorate, Aircraft Certification Office.

[FR Doc. 03-15139 Filed 6-18-03; 8:45 am]

BILLING CODE 4910-13-P